DEPARTMENT OF ENERGY

Federal Energy Regulatory Commission

[Docket No. RP01-4-001]

Midcoast Interstate Transmission, Inc.; Notice of Compliance Filing

October 31, 2000.

Take notice that on October 26, 2000, Midcoast Interstate Transmission, Inc. (MIT) filed under protest the following revised tariff sheets to provide for imbalance trading and netting in compliance with the Commission's Order No. 587-L, as reaffirmed by the Commission's October 11, 2000 Order herein. As mandated by Order No. 587-L, the revised tariff sheets are to be effective as of November 1, 2000.

Original Sheet No. 83C

Fourth Revised Sheet No. 84

Third Revised Sheet No. 85

Original Sheet No. 85A

Original Sheet No. 85B

Original Sheet No. 85C

Third Revised Sheet No. 86

MIT states that it is serving copies of the filing upon all its jurisdictional customers and applicable State agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28385 Filed 11-3-00; 8:45 am]

BILLING CODE 6717-01-M